Proclamation 9531 of October 28, 2016

National College Application Month, 2016

By the President of the United States of America

A Proclamation

In America, all people deserve an equal chance to succeed, and expanding access to affordable higher education is necessary for bringing us closer to fulfilling this ideal. Over the past several generations, our country built a strong middle class through a commitment to keeping a high-quality education within reach for all those willing to work for it, and now more than ever, a college degree is the surest path to the middle class. During National College Application Month, we encourage Americans to apply for a higher education, and we strive to ensure every student—no matter who they are or where they come from—has a chance at the opportunities they need to thrive.

My Administration is committed to giving students and their families important information on college admissions, value, and costs so they can make decisions that are right for them. Last year, we redesigned a new College Scorecard with direct input from students, families, and advisers to provide clear and accessible national data on college cost, graduation rates, debt, and post-college earnings. By visiting CollegeScorecard.Ed.gov, more Americans can evaluate college choices based on the factors that matter most to them. Through First Lady Michelle Obama's Reach Higher initiative, we are inspiring more students to pursue a higher education, ensuring they have what they need to complete their college education, and helping them understand their financial aid eligibility. And we are working to reduce barriers to educational opportunity through the Fair Chance Higher Education Pledge—an effort in which public and private colleges and universities are helping provide individuals with criminal records who have already paid their debt to society a fair chance to seek a higher education. To learn more about ways we are helping more Americans pursue a higher education, visit www.WhiteHouse.gov/ReachHigher.

Although earning a college degree is one of the most important investments individuals can make for themselves and for our country, it still feels out of reach for too many American families. That is why we have taken many steps to make college more affordable, including doubling investments in grant and scholarship aid through Pell Grants and tax credits, keeping interest rates low on Federal student loans, and helping borrowers manage debt after college through programs like the Pay as You Earn plan. This year, we launched the Free Application for Federal Student Aid—which is available at www.FAFSA.gov—3 months earlier than usual so that students can access financial aid sooner and receive better information as they search for and apply to colleges. And because every American at any age and from any walk of life should be able to earn the skills necessary to compete in the 21st-century economy, I have proposed making community college free for students with the drive and discipline to work for it.

This month, we recognize the limitless potential in every student and reaffirm our commitment to offering them the resources they need to succeed. We thank not only the teachers, counselors, and parents who support students throughout the college application process, but also the organizations and institutions partnering with us to eliminate unnecessary barriers to higher education. Let us celebrate the progress we have made as more historically underserved students are enrolling in college for the first time, more students are graduating from college than ever before, and new student loan defaults are on the decline. And together, let us forge a future where every student has the opportunity to go as far as their dreams and hard work will take them.

NOW, THEREFORE, I, BARACK OBAMA, President of the United States of America, by virtue of the authority vested in me by the Constitution and the laws of the United States, do hereby proclaim November 2016 as National College Application Month. I call upon public officials, educators, parents, students, and all Americans to observe this month with appropriate ceremonies, activities, and programs designed to encourage students to make plans for and apply to college.

IN WITNESS WHEREOF, I have hereunto set my hand this twenty-eighth day of October, in the year of our Lord two thousand sixteen, and of the Independence of the United States of America the two hundred and forty-first.

[FR Doc. 2016-26657

Filed 11-1-16; 11:15 am]

Billing code 3295-F7-P